DEPARTMENT OF COMMERCE

Foreign-Trade Zones Board

[S-117-2015]

Foreign-Trade Zone 38—Spartanburg County, South Carolina; Application for Subzone; Springsteen Logistics, LLC; Rock Hill and Fort Lawn, South Carolina

An application has been submitted to the Foreign-Trade Zones (FTZ) Board by the South Carolina State Ports Authority, grantee of FTZ 38, requesting subzone status for the facilities of Springsteen Logistics, LLC, located in Rock Hill and Fort Lawn, South Carolina. The application was submitted pursuant to the provisions of the Foreign-Trade Zones Act, as amended (19 U.S.C. 81a-81u), and the regulations of the FTZ Board (15 CFR part 400). It was formally docketed on August 11, 2015.

The proposed subzone would consist of the following sites: Site 1 (6.6 acres) 220 West White Street, Rock Hill; Site 2 (24 acres) 5918 Lancaster Highway, Fort Lawn; and, Site 3 (42 acres) 5992 Lancaster Highway, Fort Lawn. No authorization for production activity has been requested at this time. The proposed subzone would be subject to the existing activation limit of FTZ 38.

In accordance with the FTZ Board's regulations, Kathleen Boyce of the FTZ Staff is designated examiner to review the application and make recommendations to the Executive Secretary.

Public comment is invited from interested parties. Submissions shall be addressed to the FTZ Board's Executive Secretary at the address below. The closing period for their receipt is September 28, 2015. Rebuttal comments in response to material submitted during the foregoing period may be submitted during the subsequent 15-day period to October 13, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: August 11, 2015.
Andrew McGilvray,
Executive Secretary.

[FR Doc. 2015-20264 Filed 8-14-15; 8:45 am]

BILLING CODE 3510-DS-P